DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Networking Suicide Prevention Hotlines—Evaluation of the Lifeline Policies for Helping Callers at Imminent Risk (NEW)

This proposed project is a new data collection that builds on previously approved data collection activities [Evaluation of Networking Suicide Prevention Hotlines Follow-Up Assessment (OMB No. 0930-0274) and Call Monitoring of National Suicide Prevention Lifeline Form (OMB No. 0930-0275)]. This new data collection is an effort to advance the understanding of crisis hotline utilization and its impact. The Substance Abuse and Mental Health Services Administration's (SAMHSA), Center for Mental Health Services (CMHS) funds a National Suicide Prevention Lifeline Network (“Lifeline”), consisting of a toll-free telephone number that routes calls from anywhere in the United States to a network of local crisis centers. In turn, the local centers link callers to local emergency, mental health, and social service resources.

The overarching purpose of the proposed Evaluation of the Lifeline Policies for Helping Callers at Imminent Risk is to implement data collection to evaluate hotline counselors' management of imminent risk callers and third party callers concerned about persons at imminent risk, and counselor adherence to Lifeline Policies and Guidelines for Helping Callers at Imminent Risk of Suicide. Specifically, the Evaluation of the Lifeline Policies for Helping Callers at Imminent Risk will collect data, using an imminent risk form, to inform the network's knowledge of the extent to which counselors are aware of and being guided by the Lifeline's imminent risk guidelines; counselors' definitions of imminent risk; the rates of active rescue of imminent risk callers; types of rescue; barriers to intervention; and the circumstances in which active rescue is initiated, including the caller's agreement to receive the intervention.

Clearance is being requested for one activity to assess the knowledge, actions, and practices of counselors to aid callers who are determined to be at imminent risk for suicide and who may require active rescue. This evaluation will allow researchers to examine and understand the actions taken by counselors to aid imminent risk callers, the need for active rescue, and, ultimately, to improve the delivery of crisis hotline services to imminent risk callers. A total of eight centers will participate in this evaluation. Thus, SAMHSA is requesting OMB review and approval of the National Suicide Prevention Lifeline—Imminent Risk Form. This activity is distinct from the Crisis Center Survey data collection, which targets the entire network of crisis centers and focuses on a different domain of questions (specifically, the makeup, strengths, and needs of crisis centers.) The information gathered from the Crisis Center Survey cannot provide a profile of imminent risk callers or details about interventions with imminent risk or third party callers.

Crisis counselors at eight participating centers will record information discussed with imminent risk callers on the Imminent Risk Form, which does not require direct data collection from callers. As with previously approved evaluations, callers will maintain anonymity. Counselors will be asked to complete the form for 100% of imminent risk callers to the eight centers participating in the evaluation. This form requests information in 14 content areas, each with multiple sub-items and response options. Response options include open-ended, yes/no, Likert-type ratings, and multiple choice/check all that apply. The form also requests demographic information on the caller, the identification of the center and counselor submitting the form, and the date of the call. Specifically, the form is divided into the following sections: (1) Call type, (2) gender, (3) age, (4) suicidal desire, (5) suicidal intent, (6) suicidal capability, (7) buffers to suicide, (8) interventions agreed to by caller or implemented by counselor without consent, (9) whether imminent risk was reduced enough such that active rescue was not needed, (10) interventions for third party callers calling about a person at imminent risk, (11) if supervisory consultation occurred, (12) barriers to getting needed help to the person at imminent risk, (13) steps taken to confirm emergency contact was made with person at risk, and (14) steps taken when emergency contact was NOT made with person at risk. The form will take approximately 15 minutes to complete and may be completed by the counselor during or after the call. It is expected that a total of 1,440 forms will be completed by 360 counselors over the two-year data collection period.

The estimated response burden to collect this information is annualized over the requested two-year clearance period and is presented below:

Total and Annualized Averages—Respondents, Responses and Hours
Instrument | Number of respondents | Responses/ respondent | Total responses | Hours per response | Total hour burden
National Suicide Prevention Lifeline—Imminent Risk Form | 360 | 2 | 720 | .25 | 180

Send comments to Summer King, SAMHSA Reports Clearance Officer, Room 8-1099, One Choke Cherry Road, Rockville, MD 20857 AND e-mail her a copy at summer.king@samhsa.hhs.gov. Written comments should be received within 60 days of this notice.

Dated: July 14, 2011.
Elaine Parry,
Director, Office of Management, Technology and Operations.

[FR Doc. 2011-18371 Filed 7-20-11; 8:45 am]

BILLING CODE 4162-20-P